DEPARTMENT OF DEFENSE

Department of the Navy

Notice of Availability of Department of the Navy Report to the Council on Environmental Quality on the Use of Alternative Arrangements

AGENCY: Department of the Navy, DoD.

ACTION: Notice.

SUMMARY: The Department of the Navy (Navy) announces the availability of its report to the Council on Environmental Quality (CEQ) on the value and effectiveness of the Alternative Arrangements for the U.S. Navy's Composite Training Unit Exercises (COMPTUEXs) and Joint Task Force Exercises (JTFEXs) that occurred between January 15, 2008 and January 23, 2009, in the Southern California (SOCAL) Operating Area. The full text of the Navy's report to the CEQ is available for public viewing on the Web site established for the SOCAL Range Complex Environmental Impact Statement (EIS) at http://www.socalrangecomplexeis.com.

SUPPLEMENTARY INFORMATION: On January 15, 2008, the Navy accepted alternative arrangements approved by the CEQ, for implementing the procedural provisions of the National Environmental Policy Act (NEPA), 42 U.S.C. 4321 et seq. for five COMPTUEXs and four JTFEXs that occurred between January 15, 2008 and January 23, 2009 in the SOCAL Operating Area. These alternative arrangements specifically addressed the use of mid-frequency active (MFA) sonar and its effects on marine mammals during Navy exercises in the SOCAL Operating Area.

The Secretary of the Navy's decision memorandum documenting the Navy's acceptance of these alternative arrangements was published in the Federal Register on January 24, 2008. The decision memorandum provided that, after the conclusion of the alternative arrangements, and no later than March 23, 2009, the Navy would provide a report to the CEQ that reviewed the value and effectiveness of the approved alternative arrangements.

This notice announces the public availability of the Navy's report to the CEQ. The full text of the report is available for public viewing on the Web site established for the SOCAL Range Complex EIS at http://www.socalrangecomplexeis.com.

Dated: March 25, 2009.
A. M. Vallandingham,
Lieutenant Commander, Judge Advocate General's Corps, U.S. Navy, Federal Register Liaison Officer.

[FR Doc. E9-7049 Filed 3-27-09; 8:45 am]

BILLING CODE 3810-FF-P